FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AG International Cargo Corp (NVO & OFF), 8290 NW 64th Street, Miami, FL 33166, Officers: Maria C. Reyes, President (QI), Maily C. Reyes, Vice President, Application Type: New NVO & OFF License

Dove Global Logistics, Inc. (NVO), 2160 Plaza Del Amo, Suite 161, Torrance, CA 90501, Officers: Chol Min Kim, President (QI), Eun Hwang, CFO, Application Type: New NVO License

ICargo Global Logistics Inc dba ICargo Express (NVO), 2085 New York Avenue, Huntington Station, NY 11746, Officers: Edwin J. Arriaga, President (QI), Ravi Sulaiman, Vice President, Application Type: New NVO License

Jawed Salim dba Continents Shipping & Trading (OFF), 18062 FM 529 Road, Suite 172, Cypress, TX 77433, Officer: Jawed Salim, Sole Proprietor (QI), Application Type: New OFF License

Safe Movers, Inc. dba Isaac's Relocation Service (NVO), 181Campanelli Parkway, Stoughton, MA 02072, Officers: Yizhaq Edry, Treasurer (QI), Ami Joseph, President, Application Type: Change Trade Name to Safe Movers, Inc., dba Isaac's Moving & Storage

Sealaska Global Logistics, LLC (NVO & OFF), 5324 Georgia Highway 85, Suite 500, Forest Park, GA 30297, Officers: Angela Higgs, Senior Vice President (QI), Mahesh Niruttan, President, Application Type: Name Change to 20Cube Logistics Worldwide, LLC

TGP Logistics Inc. (NVO & OFF), 2500 Wilcrest Drive, Suite 300, Houston, TX 77042, Officers: Myrian T. Morales, Vice President (QI), Colin B. Charnock, Secretary, Application Type: Add NVO Service

Triple “B” Packers & Forwarders, Inc. dba Pacific Micronesian Lines (NVO), 1511 Glenn Curtiss Street, Carson, CA 90746, Officer: Richard Beliveau, President (QI), Application Type: Name Change to Triple “B” Forwarders, Inc. dba Pacific Micronesian Lines

Unity Container Line, Inc. (NVO), 3550 NW 155th Avenue, Miami, FL 33178, Officer: Jose R. Gantus, President (QI), Application Type: QI Change

XL Worldwide Corp. (NVO & OFF), 10570 NW 37th Terrace, Miami, FL 33178, Officers: Freddy Franco, Secretary (QI), Marcelo Castro, President, Application Type: New NVO & OFF License

Dated: May 17, 2013.
By the Commission.
Rachel E. Dickon.
Assistant Secretary.

[FR Doc. 2013-12233 Filed 5-22-13; 8:45 am]

BILLING CODE 6730-01-P